DEPARTMENT OF ENERGY

U.S. Energy Information Administration

Agency Information Collection Extension

AGENCY: U.S. Energy Information Administration (EIA), U.S. Department of Energy (DOE).

ACTION: Notice and request for comments.

SUMMARY: EIA is requesting a three-year extension, without changes, of Form NWPA-830G Appendix G—Standard Remittance Advice for Payment of Fees, including Annex A to Appendix G, as required by the Paperwork Reduction Act of 1995. Form NWPA-830G is part of the Standard Contract for Disposal of Spent Nuclear Fuel and/or High-Level Radioactive Waste. Generators and owners of spent nuclear fuel and high-level radioactive waste of domestic origin paid fees into the nuclear waste fund based on net electricity generated and sold as defined in the Standard Contract.

DATES: Comments regarding this proposed information collection must be received on or before June 25, 2018. If you anticipate difficulty in submitting comments within that period, contact the person listed in ADDRESSES as soon as possible.

ADDRESSES: Send your comments to: U.S. Energy Information Administration, Office of Electricity, Coal, Nuclear, and Renewables Analysis, EI-34, U.S. Department of Energy, 1000 Independence Ave. SW, Washington, DC 20585, Attn: Marta Gospodarczyk.

If you prefer, you can email them to: marta.gospodarczyk@eia.gov.

FOR FURTHER INFORMATION CONTACT: Requests for additional information or copies of any forms and instructions should be directed to Ms. Gospodarczyk at 202-586-0527 or at: marta.gospodarczyk@eia.gov. The Form NWPA-830G, “Appendix G—Standard Remittance Advice for Payment of Fees,” including Annex A to Appendix G, may also be viewed here: http://www.eia.gov/survey/#nwpa-830g.

SUPPLEMENTARY INFORMATION: This information collection request contains:

(1) OMB No. 1901-0260;

(2) Information Collection Request Title: Standard Contract for Disposal of Spent Nuclear Fuel and/or High-Level Radioactive Waste;

(3) Type of Request: Three-year extension;

(4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. This information is used to assess the adequacy of energy resources to meet near and longer term domestic demands.

As part of its effort to comply with the Paperwork Reduction Act of 1995 (44 U.S.C. 3501 et seq.), EIA provides the general public and other federal agencies with opportunities to comment on collections of energy information conducted by or in conjunction with EIA. Also, EIA will later seek approval for this collection by OMB under Section 3507(a) of the Paperwork Reduction Act of 1995.

The Nuclear Waste Policy Act of 1982 (42 U.S.C. 10101 et seq.) required that DOE enter into Standard Contracts with all generators or owners of spent nuclear fuel and high-level radioactive waste of domestic origin. Form NWPA-830G Appendix G—Standard Remittance Advice for Payment of Fees, including Annex A to Appendix G, is an Appendix to this Standard Contract. Appendix G and Annex A to Appendix G are commonly referred to as Remittance Advice (RA) forms. RA forms must be submitted quarterly by generators and owners of spent nuclear fuel and high-level radioactive waste of domestic origin who signed the Standard Contract. Appendix G is designed to serve as the source document for entries into DOE accounting records to transmit data to DOE concerning payment of fees into the Nuclear Waste Fund for spent nuclear fuel and high-level waste disposal. Annex A to Appendix G is used to provide data on the amount of net electricity generated and sold, upon which these fees are based.

Please refer to the proposed forms and instructions for more information about the purpose, who must report, when to report, where to submit, the elements to be reported, detailed instructions, provisions for confidentiality, and uses (including possible non-statistical uses) of the information. For instructions on obtaining materials, see the FOR FURTHER INFORMATION CONTACT section.

(5) Annual Estimated Number of Respondents: 99;

(6) Annual Estimated Number of Total Responses: 396;

(7) Annual Estimated Number of Burden Hours: 1,980;

(8) Annual Estimated Reporting and Recordkeeping Cost Burden: EIA estimates that there are no additional costs to respondents associated with the surveys other than the costs associated with the burden hours. The information is maintained in the normal course of business. The cost of burden hours to the respondents is estimated to be $149,866 ($75.69 per hour times 1,980 hours). Other than the cost of burden hours, EIA estimates that there are no additional costs for generating, maintaining and providing the information.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Statutory Authority: Section 13(b) of the Federal Energy Administration Act of 1974, Pub. L. 93-275, codified as (15 U.S.C. 772(b) et seq.); the DOE Organization Act of 1977, Pub. L. 95-91, codified as (42 U.S.C. 7101 et seq.); and Nuclear Waste Policy Act of 1982 (42 U.S.C. 10101 et seq.).

Issued in Washington, DC, on April 4, 2018.
Nanda Srinivasan,
Director, Office of Survey Development and Statistical Integration, U.S. Energy Information Administration.

[FR Doc. 2018-08520 Filed 4-23-18; 8:45 am]

BILLING CODE 6450-01-P